DEPARTMENT OF DEFENSE

GENERAL SERVICES ADMINISTRATION

NATIONAL AERONAUTICS AND SPACE ADMINISTRATION

[OMB Control No. 9000-0177; Docket No. 2024-0053; Sequence No. 11]

Submission for OMB Review; Reporting Executive Compensation and First-Tier Subcontract Awards

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a reinstatement of a previously approved information collection regarding reporting executive compensation and first-tier subcontract awards.

DATES: Submit comments on or before September 12, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and any Associated Form(s):

9000-0177, Reporting Executive Compensation and First-tier Subcontract Awards.

B. Need and Uses

This clearance covers the information that contractors must report to the Federal Subaward Reporting System (FSRS) to comply with requirements under the Federal Acquisition Regulation (FAR) clause at 52.204-10, Reporting Executive Compensation and First-Tier Subcontract Awards. OMB Control No. 3090-0292 covers the information that nonprocurement entities must submit to FSRS. The separate collection for procurement entity reporting increases clarity and visibility of the specific FAR reporting requirements. This clearance covers the following sections of FAR clause 52.204-10:

• FAR 52.204-10(d)(2), First-tier subcontract information. Contractors shall report the following information for their first-tier subcontracts at http://www.fsrs.gov by the end of the month following the month of award of a first-tier subcontract valued at or above $30,000:

(i) Unique entity identifier for the subcontractor receiving the award and for the subcontractor's parent company, if the subcontractor has a parent company.

(ii) Name of the subcontractor.

(iii) Amount of the subcontract award.

(iv) Date of the subcontract award.

(v) A description of the products or services (including construction) being provided under the subcontract, including the overall purpose and expected outcomes or results of the subcontract.

(vi) Subcontract number (the subcontract number assigned by the contractor).

(vii) Subcontractor's physical address including street address, city, state, and country. Also include the nine-digit zip code and congressional district.

(viii) Subcontractor's primary performance location including street address, city, state, and country. Also include the nine-digit zip code and congressional district.

(ix) The prime contract number, and order number if applicable.

(x) Awarding agency name and code.

(xi) Funding agency name and code.

(xii) Government contracting office code.

(xiii) Treasury account symbol as reported in FPDS.

(xiv) The applicable North American Industry Classification System code.

Contractors shall follow the instructions at FSRS.gov to report the data. Contractors may access FSRS with their Electronic Subcontract Reporting System (eSRS) user account since access to FSRS and eSRS is accomplished with a single account, single log-in. The burden for the eSRS information collection is covered under OMB Control No. 9000-0007, Subcontracting Plans.

• FAR 52.204-10(d)(3), Executive compensation of the first-tier subcontractor.

Contractors shall report the names and total compensation of each of the five most highly compensated executives for their first-tier subcontractors for that first-tier subcontractor's preceding completed fiscal year at http://www.fsrs.gov, if—

(i) In the subcontractor's preceding fiscal year, the subcontractor received—

(A) 80 percent or more of its annual gross revenues from Federal contracts (and subcontracts), loans, grants (and subgrants), cooperative agreements, and other forms of Federal financial assistance; and

(B) $25,000,000 or more in annual gross revenues from Federal contracts (and subcontracts), loans, grants (and subgrants), cooperative agreements, and other forms of Federal financial assistance; and

(ii) The public does not have access to information about the compensation of the executives through periodic reports filed under section 13(a) or 15(d) of the Securities Exchange Act of 1934 (15 U.S.C. 78m(a), 78o(d)) or section 6104 of the Internal Revenue Code of 1986. (To determine if the public has access to the compensation information, see the U.S. Security and Exchange Commission total compensation filings at http://www.sec.gov/answers/execomp.htm.)

FAR 52.204-10(d)(1) requires contractors to report the names and total compensation of each of the five most highly compensated executives for its preceding completed fiscal year as part of the contractor's annual registration requirement in the System for Award Management (SAM) (FAR provision 52.204-7). The burden for the SAM information collection is covered under OMB Control No. 9000-0189, Certain Federal Acquisition Regulation Part 4 Requirements.

This collection of information is required to comply with section 2 of the Federal Funding Accountability and Transparency Act of 2006 (Pub. L. 109-282) (FFATA), as amended by section 6202 of the Government Funding Transparency Act of 2008 (Pub. L. 110-252) (31 U.S.C. 6101 note). The statute required the Office of Management and Budget to establish a free, public, online database containing full disclosure of all Federal contract award information. The public may view first-tier subcontract award data at usaspending.gov.

C. Annual Burden

Respondents: 42,231.

Total Annual Responses: 266,169.

Total Burden Hours: 506,617.

D. Public Comment

A 60-day notice was published in the Federal Register at 89 FR 45894, on May 24, 2024. Comments were received from five respondents; however, they did not change the estimate of the burden.

Comment: A respondent expressed support of the collection as beneficial for the small business community.

Response: The respondents' input is appreciated.

Comment: Multiple respondents opposed the reinstatement of the information collection citing the following concerns: the benefits of the collection do not justify the associated costs and challenges; the collection of information is overly intrusive and unnecessary for the proper performance of the functions of Federal Government acquisitions; the data collected is unlikely to enhance transparency or accountability in a meaningful way; the burdensome nature of the reporting requirements discourage companies from participating in Federal contracting, ultimately reducing competition and innovation; and the data collected raises significant privacy concerns, with potential risks of misuse or exposure of sensitive personal information.

Response: The OMB clearance for this collection of information is required to comply with the Paperwork Reduction Act. This reinstatement covers the information that contractors report to the FSRS to comply with requirements under the FAR clause at 52.204-10, Reporting Executive Compensation and First-Tier Subcontract Awards. FAR clause 52.204-10 implemented section 2 of the Federal Funding Accountability and Transparency Act of 2006 (Pub. L. 109-282), as amended by section 6202 of the Government Funding Transparency Act of 2008 (Pub. L. 110-252) (31 U.S.C. 6101 note), which requires contractors to report subcontract award data and the total compensation of the five most highly compensated executives of the contractor and subcontractor. The statute required OMB to establish a free, public, online database containing full disclosure of all Federal contract award information. The public may view first-tier subcontract award data at USASpending.gov. Changes to the information collected require a change in the law.

Comment: A respondent expressed concerns with the burden estimate of twelve hours per contractor each year being too low.

Response: The burden to report the subcontractor award information per FAR 52.204-10(d)(2) is estimated to average 2 hours per response for a prime contractor. The information on a first-tier subcontract covered by paragraph (d)(2) is reported when the subcontract is awarded, and further reporting is only required if one of the reported data elements changes during the performance of the subcontract. The burden to report the subcontractor executive compensation per FAR 52.204-10(d)(3) is estimated to average 1 hour per response for a prime contractor. The information on a first-tier subcontract covered by paragraph (d)(3) is reported when the subcontract is awarded and annually thereafter if needed. The aggregate of twelve hours per contractor per year covers the reporting variation that firms may experience.

Obtaining Copies: Requesters may obtain a copy of the information collection documents from the GSA Regulatory Secretariat Division by calling 202-501-4755 or emailing GSARegSec@gsa.gov. Please cite OMB Control No. 9000-0177, Reporting Executive Compensation and First-tier Subcontract Awards.

Janet Fry,
Director, Federal Acquisition Policy Division, Office of Governmentwide Acquisition Policy, Office of Acquisition Policy, Office of Governmentwide Policy.

[FR Doc. 2024-18005 Filed 8-12-24; 8:45 am]

BILLING CODE 6820-EP-P